DEPARTMENT OF COMMERCE

National Oceanic and Atmospheric Administration

50 CFR Part 679

[Docket No. 150916863-6211-02]

RIN 0648-XF010

Fisheries of the Exclusive Economic Zone Off Alaska; Exchange of Flatfish in the Bering Sea and Aleutian Islands Management Area

AGENCY: National Marine Fisheries Service (NMFS), National Oceanic and Atmospheric Administration (NOAA), Commerce.

ACTION: Temporary rule; reallocation.

SUMMARY: NMFS is exchanging unused flathead sole and rock sole Amendment 80 allocations of the total allowable catch for yellowfin sole Amendment 80 acceptable biological catch (ABC) reserves. This action is necessary to allow the 2016 total allowable catch of flathead sole, rock sole, and yellowfin sole in the Bering Sea and Aleutian Islands management area to be harvested.

DATES: Effective November 4, 2016, through December 31, 2016.

FOR FURTHER INFORMATION CONTACT: Steve Whitney, 907-586-7228.

SUPPLEMENTARY INFORMATION: NMFS manages the groundfish fishery in the Bering Sea and Aleutian Islands management area (BSAI) according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2016 flathead sole, rock sole, and yellowfin sole Amendment 80 allocations of the total allowable catch (TAC) specified in the BSAI are 9,853 metric tons (mt), 43,965 mt, and 115,038 mt as established by the final 2016 and 2017 harvest specifications for groundfish in the BSAI (81 FR 14773, March 18, 2016) and as revised (81 FR 75740, November 1, 2016). The 2016 flathead sole, rock sole, and yellowfin sole Amendment 80 ABC reserves are 44,308 mt, 93,897 mt, and 55,531 mt as established by the final 2016 and 2017 harvest specifications for groundfish in the BSAI (81 FR 14773, March 18, 2016).

The Alaska Seafood cooperative has requested that NMFS exchange 850 mt of flathead sole and 1,670 mt of rock sole Amendment 80 allocations of the TAC for 2,520 mt of yellowfin sole Amendment 80 ABC reserves under § 679.91(i). Therefore, in accordance with § 679.91(i), NMFS exchanges 850 mt of flathead sole and 1,670 mt of rock sole Amendment 80 allocations of the TAC for 2,520 mt of yellowfin sole Amendment 80 ABC reserves in the BSAI. This action also decreases and increases the TACs and Amendment 80 ABC reserves by the corresponding amounts. Tables 11 and 13 of the final 2016 and 2017 harvest specifications for groundfish in the BSAI (81 FR 14773, March 18, 2016) and as revised (81 FR 75740, November 1, 2016) are further revised as follows:

Table 11—Final 2016 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 7,900 | 7,000 | 9,000 | 15,163 | 52,659 | 154,278
CDQ | 845 | 749 | 963 | 1,160 | 4,364 | 18,241
ICA | 200 | 75 | 10 | 5,000 | 6,000 | 3,500
BSAI trawl limited access | 685 | 618 | 161 | 0 | 0 | 14,979
Amendment 80 | 6,169 | 5,558 | 7,866 | 9,003 | 42,295 | 117,558
Alaska Groundfish Cooperative | 3,271 | 2,947 | 4,171 | 1,411 | 11,129 | 43,748
Alaska Seafood Cooperative | 2,898 | 2,611 | 3,695 | 7,592 | 31,166 | 73,810
Note: Sector apportionments may not total precisely due to rounding.

Table 13—Final 2016 and 2017 ABC Surplus, Community Development Quota (CDQ) ABC Reserves, and Amendment 80 ABC Reserves in the BSAI for Flathead Sole, Rock Sole, and Yellowfin Sole
[Amounts are in metric tons]
Sector | 2016 Flathead sole | 2016 Rock sole | 2016 Yellowfin sole | 2017 Flathead sole | 2017 Rock sole | 2017 Yellowfin sole
ABC | 66,250 | 161,100 | 211,700 | 64,580 | 145,000 | 203,500
TAC | 15,163 | 52,659 | 154,278 | 21,000 | 57,100 | 144,000
ABC surplus | 51,087 | 108,441 | 57,422 | 43,580 | 87,900 | 59,500
ABC reserve | 51,087 | 108,441 | 57,422 | 43,580 | 87,900 | 59,500
CDQ ABC reserve | 5,929 | 12,874 | 4,411 | 4,663 | 9,405 | 6,367
Amendment 80 ABC reserve | 45,158 | 95,567 | 53,011 | 38,917 | 78,495 | 53,134
Alaska Groundfish Cooperative for 2016 ¹ | 4,145 | 22,974 | 24,019 | n/a | n/a | n/a
Alaska Seafood Cooperative for 2016 ¹ | 41,013 | 72,593 | 28,992 | n/a | n/a | n/a
¹ The 2017 allocations for Amendment 80 species between Amendment 80 cooperatives and the Amendment 80 limited access sector will not be known until eligible participants apply for participation in the program by November 1, 2016.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the flatfish exchange by the Alaska Seafood cooperative the BSAI. Since these fisheries are currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of October 25, 2016.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: November 1, 2016.
Emily H. Menashes,
Acting Director, Office of Sustainable Fisheries, National Marine Fisheries Service.

[FR Doc. 2016-26723 Filed 11-3-16; 8:45 am]

BILLING CODE 3510-22-P